DEPARTMENT OF ENERGY

Federal Energy Regulatory Commission

[Docket No. EL10-47-000]

PPL Montana, LLC; Notice of Petition for Declaratory Order

March 17, 2010.

Take notice that on March 10, 2010, PPL Montana, LLC (PPL Montana) filed a Petition for Declaratory Order, pursuant to Rule 207 of the Rules of Practice and Procedure of the Federal Energy Regulatory Commission (Commission), 18 CFR 385.208 (2009), requesting the Commission to issue an order confirming PPL Montana's rights as a Network Resource Interconnection Service (NRIS) customer under the transmission provider NorthWestern Corporation (NorthWestern), and how NorthWestern should accommodate PPL Montana and its other NRIS customers in its generation interconnection studies, pursuant to Commission Order Nos. 2003,¹ 890,² and NorthWestern's Open Access Transmission Tariff.

¹ Standardization of Generator Interconnection Agreements and Procedures, Order No. 2003, 68 FR 49,846 (Aug. 19, 2003), FERC Stats. & Regs ¶ 31,146 (2003) (Order No. 2003); order on reh'g, Order No. 2003-A, 69 FR 15,932 (Mar. 26, 2004), FERC Stats. & Regs. 31,160, at P 531 (2004) (Order No. 2003-A); order on reh'g, Order No. 2003-B, 70 FR 265 (Jan. 4, 2005) (Order No. 2003-B) FERC Stats & Regs. ¶ 31,171 (2005); order on reh'g, Order No. 2003-C, 70 FR 37,661 (June 30, 2005), FERC Stats. & Regs. ¶ 31,190 (2005).

² Preventing Undue Discrimination and Preference in Transmission Service, Order No. 890, 72 FR 12,266 (March 15, 2007), FERC Stats. & Regs. ¶ 31,241, at PP 418-602 (2007) (Order No. 890); order on reh'g, Order No. 890-A, 73 FR 2984 (Jan. 16, 2008), FERC Stats. & Regs. ¶ 31,261 (2008) (Order No. 890-A); order on reh'g and clarification, Order No. 890-B, 123 FERC ¶ 61,299 (2008); order on reh'g and clarification, Order No. 890-C, 126 FERC ¶ 61,228 (2009); order on clarification, Order No. 890-D, 129 FERC ¶ 61,126 (2009).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 9, 2010.

Kimberly D. Bose,
Secretary.

[FR Doc. 2010-6570 Filed 3-24-10; 8:45 am]

BILLING CODE 6717-01-P